DEPARTMENT OF THE INTERIOR

Fish and Wildlife Service

50 CFR Part 14

RIN 1018-AH75

Conferring Designated Port Status on Anchorage, AK

AGENCY: U.S. Fish and Wildlife Service, Interior.

ACTION: Proposed rule; notice of hearing.

SUMMARY: We, the U.S. Fish and Wildlife Service, propose to make Anchorage, Alaska, a designated port under section 9(f) of the Endangered Species Act of 1973. This action would allow the direct importation and exportation of wildlife through this growing international port. We are proposing to amend the regulations in 50 CFR Part 14 to reflect this designation. We will hold a public hearing to collect comments on this change. We also seek written comments from the public.

DATES: Submit comments on or before September 19, 2001. A public hearing will be held at 6 PM, September 17, 2001. Submit requests to present oral testimony at this hearing on or before August 30, 2001. See Supplementary Information section for more information on the public hearing.

ADDRESSES: Comments and materials concerning this proposal should be sent to: SAC-Branch of Investigations, U.S. Fish and Wildlife Service, Office of Law Enforcement, 4401 North Fairfax Drive, Room 500, Arlington, Virginia 22203. Comments and materials may be hand-delivered to the U.S. Fish and Wildlife Service, 4401 North Fairfax Drive, Room 500, Arlington, Virginia, between the hours of 8 A.M. and 4 P.M., Monday through Friday. For public hearing comments or testimony, see Supplementary Information section.

FOR FURTHER INFORMATION CONTACT: Special Agent Steve Oberholtzer (703) 358-1949, or Special Agent Stanley Pruszenski, Assistant Regional Director for Law Enforcement, U.S. Fish and Wildlife Service, Anchorage, Alaska (907) 786-3311.

SUPPLEMENTARY INFORMATION:

Background

The Endangered Species Act requires that all fish and wildlife, with only limited exceptions, be imported and exported through designated ports. Designated ports facilitate U.S. efforts to monitor wildlife trade and enforce wildlife protection laws and regulations by funneling wildlife shipments through a limited number of locations. The Secretary of the Interior, with approval of the Secretary of the Treasury, designates ports for wildlife trade by regulation after holding a public hearing and collecting and considering public comments. The Service presently has 13 designated ports of entry for the importation and exportation of wildlife: Los Angeles, California; San Francisco, California; Miami, Florida; Honolulu, Hawaii; Chicago, Illinois; New Orleans, Louisiana; New York, New York; Seattle, Washington; Dallas/Fort Worth, Texas; Portland, Oregon; Baltimore, Maryland; Boston, Massachusetts; and Atlanta, Georgia. The Service maintains a staff of wildlife inspectors at each designated port to inspect and clear wildlife shipments.

Regulatory exceptions allow certain types of wildlife shipments to enter or leave the country through ports which are not designated. Under certain conditions, importers and exporters can obtain a permit from the Service authorizing their use of non-designated ports. The importer or exporter will accrue additional fees associated with the inspection and permit authorizing use of a non-designated port.

Need for Proposed Rulemaking

The proximity of Anchorage to the Asian continent has prompted the State of Alaska, the City of Anchorage, and private groups such as international express carriers, the Alaskan tourism industry, and the outdoor recreational industry to target foreign trade markets as a way to bring increased economic growth to Anchorage. Stevens International Airport is expanding and a 100,000 sq. ft. warehouse is being constructed to accommodate both the growth in airline passengers and the 20 million tons of air freight that already pass through Anchorage each year. This volume is one of the highest for any airport in the United States, and future increases of 11.1 percent per year are projected. International cargo off loaded in Anchorage has been estimated at 341 million pounds for the year 2000.

Two large Anchorage international express carriers have regional hubs in Anchorage. The volume of international shipments handled by these facilities has increased from 18 to 22 percent each year over the last five years. Parallel growth has occurred in the number of wildlife shipments. Since the Service charges higher fees for inspecting and clearing shipments at Anchorage and other non-designated ports, wildlife importers using these facilities have asked that over 70 percent of their shipments be cleared at designated ports of entry in the lower 48 states. Making Anchorage a designated port will facilitate clearance of these shipments and reduce costs for all importers and exporters bringing wildlife through this city.

Increases in international visitors to Alaska have also affected the number of wildlife shipments requiring clearance. The number of U.S. and foreign hunters requesting clearance of wildlife trophies in Anchorage has increased by nearly 300 percent in the last five years. The number of foreign hunters exporting Alaskan big game trophies has jumped by 73 percent, adding substantially to the total number of wildlife shipments cleared in Anchorage.

The Service's data for fiscal year 2000 show that the port of Anchorage handled a total of 3,555 wildlife shipments with a declared value of $9.3 million. Anchorage has the highest number of declared wildlife shipments per wildlife inspector of any port in the Nation. The Service projects that the number of wildlife shipments will triple over the next three to five years following the establishment of Anchorage as a designated port. This projection is based on trends associated with the designation of the ports of Dallas-Fort Worth, Portland, and Atlanta.

Existing and projected increases in air and express cargo along with substantial growth in the number of airline passengers, international visitors, and hunters seeking clearance of wildlife imports and exports justify the proposed designation of the port of Anchorage. This change will improve service to international mail carriers, small businesses, and the public while maintaining effective regulation of U.S. wildlife trade.

Notice of Public Hearing

Section 9(f) of the Endangered Species Act, 16 U.S.C. 1538(f)(1), requires that the public be given an opportunity to comment at a public hearing before the Secretary of the Interior confers designated port status on any port. Accordingly, the Service has scheduled a public hearing for September 17, 2001, from 6 PM to 8 PM. The hearing will be held at the U.S. Fish and Wildlife Service conference room located at 1011 East Tudor Road, Room 157, Anchorage, Alaska, 99503, (907) 786-3311. All interested persons wishing to present oral or written comments at this hearing should request approval in writing by August 30, 2001. The address for requesting approval is: Assistant Regional Director for Law Enforcement, U.S. Fish and Wildlife Service, 1011 East Tudor Road, Room 155, Anchorage, Alaska 99503. If they desire, persons requesting approval may submit a written copy of their proposed oral comments.

Required Determinations

This rule has not been reviewed by the Office of Management and Budget (OMB) under Executive Order 12866. In accordance with the criteria in Executive Order 12866, this proposed rule is not a significant regulatory action.

The Department of the Interior (Department) has determined that this proposed rule will not have a significant economic effect on a substantial number of small entities under the Regulatory Flexibility Act (5 U.S.C. 601 et seq.). The Service anticipates that the addition of the port of Anchorage to the list of Service designated ports for the importation and exportation of wildlife will have no adverse effect upon individual industries and cause no demographic changes in populations. In addition, the Service anticipates that this proposal will not increase direct costs for small entities and will have no effect upon information collection and record keeping requirements. In light of this analysis, the Service has determined that the proposed rule will not have a significant economic effect on a substantial number of small entities as defined in the Regulatory Flexibility Act, 5 U.S.C. 601 et seq.

This proposed rule has no private property takings implications as defined in Executive Order 12630. The only effect of this rule will be to make it easier for businesses to import and export wildlife directly through Anchorage, Alaska.

This action does not contain any federalism impacts as described in Executive Order 13132.

This proposed rule does not contain any information collection requirements that require approval by the Office of Management and Budget under the Paperwork Reduction Act, 44 U.S.C. 3501 et seq.

The proposed changes in the regulations in part 14 are regulatory and enforcement actions covered by a categorical exclusion from National Environmental Policy Act procedures under 516 Department Manual, Chapter 2, Appendix 1.10.

The proposed changes have no environmental justice implications under Executive Order 12988.

A determination has been made under Section 7 of the Endangered Species Act that the proposed revision of Part 14 will not affect federally listed species.

In accordance with the Unfunded Mandates Reform Act (2 U.S.C. 1501 et seq.), this rule, as proposed, will not “significantly or uniquely” affect small governments.

This proposed rule is not a major rule under 5 U.S.C. 804(2), the Small Business Regulatory Enforcement Act.

In accordance with the President's memorandum of April 29, 1994, “Government-to-Government Relations with Native American Tribal Governments” (59 FR 22951), Executive Order 13175, and 512 DM 2, we have evaluated possible effects on Federally recognized Indian tribes and have determined that there are no effects. Individual tribal members are subject to the same regulatory requirements as other individuals who engage in the import and export of wildlife.

Author

The originator of this proposed rule is Special Agent Steve Oberholtzer, Division of Law Enforcement , U.S. Fish and Wildlife Service, Washington, DC.

List of Subjects in 50 CFR Part 14

Animal welfare, Exports, Fish, Imports, Labeling, Reporting and record keeping requirements, Transportation, Wildlife.

Proposed Regulation Promulgation

For the reasons set out in the preamble, the Service proposes to amend Chapter I, subchapter B of Title 50 of the Code of Federal Regulations as set forth below.

PART 14—IMPORTATION, EXPORTATION, AND TRANSPORTATION OF WILDLIFE

1. The authority citation for Part 14 continues to read as follows:

Authority: 16 U.S.C. 668, 704, 712, 1382, 1538(d)-(f), 1540(f), 3371-3378, 4223-4244, and 4901-4916; 18 U.S.C. 42; 31 U.S.C. 9701.

2. Amend § 14.12 by adding paragraph (n) to read as follows:

§ 14.12 Designated ports.

* * * * *

(n) Anchorage, Alaska.

Dated: July 20, 2001.
Joseph E. Doddridge,
Acting Assistant Secretary for Fish and Wildlife and Parks.

[FR Doc. 01-20870 Filed 8-17-01; 8:45 am]

BILLING CODE 4310-55-P